DEPARTMENT OF ENERGY

Federal Energy Regulatory Commission

[Docket No. ER01-2467-000, et al.]

Florida Power Corporation, et al.; Electric Rate and Corporate Regulation Filings

July 6, 2001.

Take notice that the following filings have been made with the Commission:

1. Florida Power Corporation

[Docket No. ER01-2467-000]

Take notice that on June 29, 2001, Florida Power Corporation (FPC) filed an executed Transmission Service System Impact Study Agreement (Agreement) with FPL Energy Marketing (FPL Energy) under FPC's open access transmission tariff, FERC Electric Tariff, Second Revised Volume No. 6. FPC files this Agreement in conjunction with the joint transmission system impact study process that FPC, Florida Power & Light Company and Tampa Electric Company have agreed to undertake to handle the pending transmission service requests that impact these three utility systems. FPC requests waiver of the Commission's notice of filing requirements to permit this Agreement to become effective on May 31, 2001.

A copy of the filing was served on FPL Energy.

Comment date: July 20, 2001, in accordance with Standard Paragraph E at the end of this notice.

2. Tampa Electric Company

[Docket No. ER01-1896-001]

Take notice that on June 29, 2001, Tampa Electric Company (Tampa Electric) refiled its transmission service agreements with Mulberry Phosphates, Inc. (Mulberry), Cargill Fertilizer, Inc. (Cargill), and Auburndale Power Partners, Limited Partnership (Auburndale), and interconnection agreements with Cargill and Auburndale, in the format required by the Commission's Order No. 614. The filing was made in compliance with the Commission's letter order date May 30, 2001.

Copies of the compliance filing have been served on the persons designated on the official service list in this docket, Mulberry, Cargill, Auburndale, and the Florida Public Service Commission.

Comment date: July 20, 2001, in accordance with Standard Paragraph E at the end of this notice.

3. Florida Power Corporation

[Docket No. ER01-2472-000]

Take notice that on June 29, 2001, Florida Power Corporation (FPC) filed an executed Transmission Service System Impact Study Agreement (Agreement) with Mirant Corporation (Mirant) under FPC's open access transmission tariff, FERC Electric Tariff, Second Revised Volume No. 6. FPC files this Agreement in conjunction with the joint transmission system impact study process that FPC, Florida Power & Light Company and Tampa Electric Company have agreed to undertake to handle the pending transmission service requests that impact these three utility systems. A copy of the filing was served on Mirant.

FPC requests waiver of the Commission's notice of filing requirements to permit this Agreement to become effective on June 1, 2001.

Comment date: July 20, 2001, in accordance with Standard Paragraph E at the end of this notice.

4. Florida Power Corporation

[Docket No. ER01-2480-000]

Take notice that on June 29, 2001, Florida Power Corporation (FPC) filed an executed Transmission Service System Impact Study Agreement (Agreement) with Seminole Electric Cooperative, Inc. (Seminole) under FPC's open access transmission tariff, FERC Electric Tariff, Second Revised Volume No. 6. FPC files this Agreement in conjunction with the joint transmission system impact study process that FPC, Florida Power & Light Company and Tampa Electric Company have agreed to undertake to handle the pending transmission service requests that impact these three utility systems. A copy of the filing was served on Seminole.

FPC requests waiver of the Commission's notice of filing requirements to permit this Agreement to become effective on June 1, 2001.

Comment date: July 20, 2001, in accordance with Standard Paragraph E at the end of this notice.

5. Exelon Generation Company, LLC, Exelon Energy Company

[Docket No. ER01-2481-000]

Take notice that on June 29, 2001, Exelon Generation Company, LLC (Exelon Generation), and Exelon Energy Company (Exelon Energy) submitted for filing a long-term power sales service agreement between Exelon Generation and Exelon Energy under which the parties will make sales of capacity and energy to each other.

Excelon Generation and Exelon Energy request that the Service Agreement be accepted for filing effective as of June 1, 2001.

Comment date: July 20, 2001, in accordance with Standard Paragraph E at the end of this notice.

6. DPL Energy, LLC, DPL Energy, Inc.

[Docket No. ER01-2483-000]

Take notice that on June 29, 2001, DPL Energy, LLC (DPLE-LLC) and DPL Energy, Inc. (DPLE-Inc.) tendered for filing a Notice of Succession stating that DPLE-LLC is adopting and succeeding to the jurisdictional rate schedules and supplements thereto of DPLE-Inc.

Comment date: July 20, 2001, in accordance with Standard Paragraph E at the end of this notice.

7. Cinergy Services, Inc.

[Docket No. ER01-2484-000]

Take notice that on July 2, 2001, Cinergy Services, Inc. tendered for filing an Interconnection Agreement into by and between Cinergy Services, Inc. (Cinergy) and CinCap VII, LLC (CinCap VII), which is dated June 28, 2001. The Interconnection Agreement between the parties provides for the interconnection of a generation station with the transmission system of PSI Energy, Inc. (PSI), a Cinergy utility operating company, and further defines the continuing responsibilities and obligations of the parties with respect thereto. Cinergy states that it has served a copy of its filing upon the Indiana Utility Regulatory Commission and CinCap VII.

Cinergy and CinCap VII are requesting an effective date of June 29, 2001.

Comment date: July 23, 2001, in accordance with Standard Paragraph E at the end of this notice.

8. Tampa Electric Company

[Docket No. ER01-2485-000]

Take notice that on July 2, 2001, Tampa Electric Company tendered for filing notices of termination of its interchange contracts with the City of Wauchula, the City of Fort Meade, and the Tennessee Valley Authority, as well as specified service schedules and letters of commitment under its interchange contracts with 17 other utilities. Tampa Electric proposes that the terminations be made effective on August 1, 2001, and therefore requests waiver of the Commission's notice requirement.

Copies of the filing have been served on the parties to the affected interchange contracts and the Florida and Georgia Public Service Commissions.

Comment date: July 23, 2001, in accordance with Standard Paragraph E at the end of this notice.

9. Wisconsin Electric Power Company

[Docket No. ER01-2486-000]

Take notice that Wisconsin Electric Power Company (Wisconsin Electric) on July 2, 2001, tendered for filing an electric service agreement under its Coordination Sales Tariff (FERC Electric Tariff, Second Revised Volume No. 2). Wisconsin Electric respectfully requests an effective date July 1, 2001.

Copies of the filing have been served on American Transmission Company LLC, the Michigan Public Service Commission, and the Public Service Commission of Wisconsin.

Comment date: July 23, 2001, in accordance with Standard Paragraph E at the end of this notice.

10. The Montana Power Company

[Docket No. ER01-2487-000]

Take notice that on July 2, 2001, The Montana Power Company (Montana) tendered for filing with the Federal Energy Regulatory Commission pursuant to 18 C.F.R. § 35.13 executed Network Integration Transmission Service Agreements with Luzenac America, Inc. (Luzenac) and ExxonMobil Corporation (ExxonMobil); and an executed Firm Point-To-Point Transmission Service Agreement with The Montana Power Power Marketing Company (Montana Power Power Marketing), all under Montana's FERC Electric Tariff, Fourth Revised Volume No. 5 (Open Access Transmission Tariff).

A copy of the filing was served upon Luzenac, ExxonMobil, and Montana Power Power Marketing.

Comment date: July 23, 2001, in accordance with Standard Paragraph E at the end of this notice.

11. American Electric Power Service Corporation

[Docket No. ER01-2488-000]

Take notice that on July 2, 2001, the American Electric Power Service Corporation (AEPSC) tendered for filing an executed Interconnection and Operation Agreement between Kentucky Power Company and Kentucky Mountain Power, L.L.C. The agreement is pursuant to the AEP Companies' Open Access Transmission Service Tariff (OATT) that has been designated as the Operating Companies of the American Electric Power System FERC Electric Tariff Revised Volume No. 6, effective June 15, 2000.

AEP requests an effective date of August 31, 2001. Copies of AEP's filing have been served upon the Kentucky Public Service Commission.

Comment date: July 23, 2001, in accordance with Standard Paragraph E at the end of this notice.

12. Umatilla Electric Cooperative Association

[Docket No. ER01-2490-000]

Take notice that on July 3, 2001, Umatilla Electric Cooperative Association submitted for filing an open access transmission tariff and accompanying rates.

Comment date: July 24, 2001, in accordance with Standard Paragraph E at the end of this notice.

13. Cambridge Electric Light Company, Boston Edison Company, Commonwealth Electric Company

[Docket Nos. ER01-1695-002; ER01-1705-002; and ER01-1782-002]

Take notice that on July 2, 2001, Boston Edison Company, Cambridge Electric Light Company and Commonwealth Electric Company (NSTAR Companies) tendered for filing Attachment K to their respective Open Access Transmission Tariffs, “Standard Form of Interconnection Agreement” in compliance with the Commission's June 1, 2001 order in the above-referenced dockets.

Comment date: July 23, 2001, in accordance with Standard Paragraph E at the end of this notice.

14. ISO New England Inc.

[Docket No. ER01-316-003]

Take notice that on July 2, 2001, ISO New England Inc. refiled its Index of Customers for the first quarter of 2001 for its Tariff for Transmission Dispatch and Power Administration Services in compliance with Order No. 614.

Comment date: July 23, 2001, in accordance with Standard Paragraph E at the end of this notice.

15. Southern Electric Generation Co.

[Docket Nos. ER01-602-008 and ER01-1773-001]

Take notice that on July 2, 2001, Southern Electric Generation Company tendered for filing revised original tariff sheets compliant with the formatting requirements of Commission Order No. 614.

Comment date: July 23, 2001, in accordance with Standard Paragraph E at the end of this notice.

16. Southern Company Services, Inc.

[Docket No. ER01-602-009]

Take notice that on July 2, 2001, in compliance with Commission letter orders dated January 21, 2001 and June 1, 2001, Southern Company Services, Inc. (SCS), as agent for Alabama Power Company, Georgia Power Company, Gulf Power Company, Mississippi Power Company and Savannah Electric and Power Company (collectively, Southern Companies), tendered for filing rate schedules and/or associated sheets compliant with Commission Order No. 614 for certain Southern Operating Companies Rate Schedules. These Rate Schedules are Georgia Power First Revised Rate Schedule FERC No. 803 and Southern Operating Companies First Revised Rate Schedules FERC Nos. 15, 30, 33, 51, 53, 59 and 62.

Comment date: July 23, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-17454 Filed 7-11-01; 8:45 am]

BILLING CODE 6717-01-P